DEPARTMENT OF COMMERCE

International Trade Administration

[A-570-062, C-570-063]

Cast Iron Soil Pipe Fittings From the People's Republic of China: Final Results of Changed Circumstances Reviews

AGENCY: Enforcement and Compliance, International Trade Administration, Department of Commerce.

SUMMARY: Commerce finds that Wor-Biz Industrial Product Co., Ltd. (Anhui) (Wor-Biz Industrial) is the successor-in-interest to Wor-Biz Trading Co., Ltd. (Anhui) (Wor-Biz Trading), and therefore is entitled to Wor-Biz Trading's antidumping duty (AD) and countervailing duty (CVD) cash deposit rates with respect to entries of subject merchandise.

DATES: Applicable January 8, 2020.

FOR FURTHER INFORMATION CONTACT: Michael Bowen at (202) 482-0768 (AD) or Dennis McClure at (202) 482-5973 (CVD), Office VIII, Enforcement and Compliance, International Trade Administration, U.S. Department of Commerce, 1401 Constitution Avenue NW, Washington, DC 20230.

SUPPLEMENTARY INFORMATION:

Background

On August 31, 2018, Commerce published the AD and CVD orders on imports of cast iron soil pipe fittings from China.¹ On November 21, 2019, Commerce initiated changed circumstances reviews (CCRs) and made preliminary findings that Wor-Biz Industrial is the successor-in-interest to Wor-Biz Trading and is entitled to Wor-Biz Trading's AD and CVD cash deposit rates with respect to entries of subject merchandise.² We provided interested parties the opportunity to comment on the Preliminary Results. No interested parties submitted case briefs or written comments.

¹ See Cast Iron Soil Pipe Fittings from the People's Republic of China: Amended Final Determination of Sales at Less Than Fair Value and Antidumping Duty Order, 83 FR 44570 and Cast Iron Soil Pipe Fittings from the People's Republic of China: Countervailing Duty Order, 83 FR 44566, both dated August 31, 2018 (collectively, the Orders).

² See Cast Iron Soil Pipe Fittings from the People's Republic of China: Initiation and Preliminary Results of Changed Circumstances Reviews, 84 FR 64263 (November 21, 2019) (Preliminary Results).

Scope of the Orders

The merchandise covered by the scope of these orders is cast iron soil pipe fittings, finished and unfinished, regardless of industry or proprietary specifications, and regardless of size. Cast iron soil pipe fittings are nonmalleable iron castings of various designs and sizes, including, but not limited to, bends, tees, wyes, traps, drains (other than drain bodies), and other common or special fittings, with or without side inlets.

Cast iron soil pipe fittings are classified into two major types—hubless and hub and spigot. Hubless cast iron soil pipe fittings are manufactured without a hub, generally in compliance with Cast Iron Soil Pipe Institute (CISPI) specification 301 and/or American Society for Testing and Materials (ASTM) specification A888. Hub and spigot pipe fittings have hubs into which the spigot (plain end) of the pipe or fitting is inserted. Cast iron soil pipe fittings are generally distinguished from other types of nonmalleable cast iron fittings by the manner in which they are connected to cast iron soil pipe and other fittings.

Excluded from the scope are all drain bodies. Drain bodies are normally classified in subheading 7326.90.86.88 of the Harmonized Tariff Schedule of the United States (HTSUS).

The cast iron soil pipe fittings subject to the scope of these orders are normally classified in subheading 7307.11.0045 of the HTSUS: Cast fittings of nonmalleable cast iron for cast iron soil pipe. They may also be entered under HTSUS 7324.29.0000 and 7307.92.3010. The HTSUS subheadings and specifications are provided for convenience and customs purposes only; the written description of the scope of these orders is dispositive.

Final Results of Changed Circumstances Reviews

Because the record contains no information or evidence that calls into question the Preliminary Results, for the reasons stated in the Preliminary Results, Commerce continues to find that Wor-Biz Industrial is the successor-in-interest to Wor-Biz Trading, and thus is entitled to Wor-Biz Trading's AD and CVD cash deposit rates with respect to entries of subject merchandise.³

³ See the Orders.

Instructions to U.S. Customs and Border Protection

Based on these final results, we will instruct U.S. Customs and Border Protection to collect estimated AD and CVD duties for all shipments of subject merchandise exported by Wor-Biz Industrial and entered, or withdrawn from warehouse, for consumption on or after the publication date of this notice in the Federal Register, at the current AD and CVD cash deposit rates for Wor-Biz Trading (i.e., 33.44% ⁴ and 7.37%, respectively). These cash deposit requirements shall remain in effect until further notice.

⁴ We intend to update the name of the exporter listed for this combination cash deposit rate to reflect these final results.

Notification to Interested Parties

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

We are issuing and publishing these final results notice in accordance with sections 751(b) and 777(i) of the Tariff Act of 1930, as amended, and 19 CFR 351.216 and 351.221(c)(3).

Dated: December 31, 2019.
Jeffrey I. Kessler,
Assistant Secretary for Enforcement and Compliance.

[FR Doc. 2020-00049 Filed 1-7-20; 8:45 am]

BILLING CODE 3510-DS-P